DEPARTMENT OF LABOR

Employment and Training Administration

Renewal of the Advisory Committee on Apprenticeship (ACA), and an Open Meeting

AGENCY: Employment and Training Administration, Labor.

ACTION: Notice

SUMMARY: Pursuant to section 10 of the Federal Advisory Committee Act (Pub. L. 92 463; 5 U.S.C. APP. 1), notice is hereby given to announce the renewal of the ACA, the new membership appointments, and an open meeting being held on October 27-28, 2010.

The Employment and Training Administration (ETA) hereby announces the renewal of the ACA and that membership appointments have been made to fill committee vacancies. The ACA is an advisory board, authorized by 29 U.S.C. 50a, which permits the Secretary of Labor to appoint a national advisory committee to serve without compensation, and complies with the requirements of the Federal Advisory Committee Act (5 U.S.C., App.). The ACA will provide advice and recommendations to the Secretary of Labor on a variety of matters facing the National Registered Apprenticeship System. The ACA membership is comprised of individuals that represent labor unions, employers, and members of the public.

All members were appointed in July 2010, for two-year terms expiring in July 2012. Pursuant to the ACA Charter, the National Association of State and Territorial Apprenticeship Directors (NASTAD) and the National Association of Governmental Labor Officials (NAGLO) are both represented by their current Presidents on the public group of the ACA. The Secretary has appointed Ms. Phaedra Ellis-Lamkins, Chief Executive Officer from Green for All as the Chairperson of the ACA.

Time and date: An open meeting of the ACA is scheduled for October 27-28, 2010, in Washington, DC. The meeting will begin at approximately 9 a.m. on Wednesday, October 27, 2010, and continue until approximately 5 p.m. The meeting will reconvene on Thursday, October 28, 2010, at approximately 9 a.m. and adjourn at approximately 5 p.m.

Place: U.S. Department of Labor, Frances Perkins Building, the Great Hall, 200 Constitution Avenue, NW., Washington, DC 20210.

FOR FURTHER INFORMATION CONTACT: Mr. John V. Ladd, Administrator, Office of Apprenticeship, ETA, U.S. Department of Labor, Room N-5311, 200 Constitution Avenue, NW., Washington, DC 20210. Telephone: (202) 693-2796, (this is not a toll-free number).

Status: Members of the public are invited to attend the proceedings. If individuals have special needs and/or disabilities that will require special accommodations, please contact Ms. Kenya Huckaby on (202) 693-3795 no later than Wednesday, October 20, 2010, to request for arrangements to be made. Any member of the public who wishes to file written data or comments pertaining to the agenda may do so by sending the data or comments to Mr. John V. Ladd, Administrator, Office of Apprenticeship, ETA, U.S. Department of Labor, Room N-5311, 200 Constitution Avenue NW., Washington, DC 20210. Such submissions must be sent by Monday, October 18, 2010, to be included in the record for the meeting.

The agenda is subject to change due to time constraints and priority items which may come before the ACA between the time of this publication and the scheduled date of the ACA meeting.

Matters To Be Considered

The agenda will focus on the following topics:

• Welcome and Introduction of ACA Members

• Overview of the Administration's Priorities and Expectation of the ACA

• Selection of the ACA Co-Chairs

• Regulatory Update on CFR 29.29 and CFR 29.30

• Future Opportunities and Challenges for the National Apprenticeship System

• Workgroup Formation and Discussion

SUPPLEMENTARY INFORMATION: The following is a list of the ACA members by group:

Labor Representatives

Mr. Michael Arndt, Director of Training, United Association of Journeymen & Apprentices of the Plumbing & Pipe Fitting Industry of the U.S. & Canada, Annapolis, Maryland.

Mr. Stephen A. Brown, Director, Construction Training Department, International Union of Operating Engineers, Washington, DC.

Mr. Michael Callanan, Executive Director, National Joint Apprenticeship and Training Committee for the Electrical Industry, Upper Marlboro, Maryland.

Mr. Thomas A. Haun, IIIAFT Administrator, Heat and Frost Insulators and Allied Workers Int'l Union, Lanham, Maryland.

Mr. William K. Irwin, Jr., Executive Director, Carpenters International Training Fund, Las Vegas, Nevada.

Mr. D. Michael Langford, National President, Utility Workers Union of America, AFL-CIO, Washington, DC.

Mr. John A. Mason, Director, Paul Hall Institute, Seafarers International Union, Piney Point, Maryland.

Ms. Bernadette Oliveira-Rivera, Fund Administrator, Laborers' International Union of North America, Pomfret Center, Connecticut.

Ms. Charissa Raynor, Executive Director, Service Employees International Union Healthcare NW Training Partnership, Federal Way, Washington.

Mr. Daniel Villao, State Director, California Construction Academy, UCLA Downtown Labor Center, Los Angeles, California.

Mr. Michael L. White, Executive Director, Apprenticeship and Training International, Union of Bridge, Structural, Ornamental and Reinforcing Iron Workers, Washington, DC.

Employer Representatives

Mr. Robert Baird, Vice President, Training and Development, Independent Electrical Contractors, Inc., Alexandria, Virginia.

Mr. Gregory A. Chambers, Director of Corporate Compliance, Oberg Industries, Inc., Freeport, Pennsylvania.

Ms. Liz Elvin, Senior Director, Workforce Development, AGC of America, Arlington, Virginia.

Mr. Frederick N. Humphreys, President and CEO, Home Builders Institute, Washington, DC.

Mr. Stephen M. Jones, Training Project Manager, Corporate Training Development, United Parcel Service, Atlanta, Georgia.

Mr. Wes Jurey, President and Chief Executive Officer, Arlington Texas Chamber of Commerce, Arlington, Texas.

Mr. Stephen C. Mandes, Executive Director, National Institute for Metalworking Skills, Inc., Fairfax, Virginia.

Mr. Todd Staub, Director of Workforce Development, Chapter Services Group, Associated Builders and Contractors, Arlington, Virginia.

Ms. Robyn Stone, Executive Director, Institute for the Future of Aging Services, American Association for Homes and Services for the Aging, Washington, DC.

Public Representatives

Ms. Connie Ashbrook, Director, Oregon Tradeswomen, Inc., Portland, Oregon.

Ms. Janet B. Bray, Executive Director, Association for Career and Technical Education, Alexandria, Virginia.

Mr. Andrew Cortés, Director of YouthBuild & Building Futures, The Providence Plan, Providence, Rhode Island.

Ms. Phaedra Ellis-Lamkins (Chairperson), Chief Executive Officer, Green for All, Oakland, California.

Ms. Emma Oppenheim, Manager, Workforce Development Policy Initiatives, National Council of La Raza, Washington, DC.

Dr. Monte Perez, President, Riverside Community College, Moreno Valley, California.

Mr. James A. Reed, Vice President, Workforce Development Division, National Urban League, New York, New York.

Mr. Martin Simon, Program Officer, Workforce Development, National Governors Association, Washington, DC.

Dr. Abel Valenzuela, Jr., Professor, UCLA's Cesar Chavez Department of Chicana and Chicano Studies, Los Angeles, California.

Ex-Officio Representatives

Ms. Jane Oates, Assistant Secretary, Employment and Training Administration (ETA), U.S. Department of Labor, Washington, DC.

Dr. Brenda Dann-Messier, Assistant Secretary, Vocational and Adult Education (OVAE), U.S. Department of Education, Washington, DC.

Mr. Barry Johnson, Senior Advisor and Director, Strategic Initiatives, Economic Development Administration (EDA), U.S. Department of Commerce, Washington, DC.

Any member of the public who wishes to speak at the meeting must indicate the nature of the intended presentation and the amount of time needed by furnishing a written statement to the Designated Federal Official, Mr. John V. Ladd, by Monday, October 18, 2010. The Chairperson will announce at the beginning of the meeting the extent to which time will permit the granting of such requests.

Signed at Washington, DC, this 7th day of September 2010.
Jane Oates,
Assistant Secretary, Employment and Training Administration.

[FR Doc. 2010-23061 Filed 9-15-10; 8:45 am]

BILLING CODE 4510-FR-P